DEPARTMENT OF THE INTERIOR

Minerals Management Service

30 CFR Part 250

RIN 1010-AC85

Oil and Gas and Sulphur Operations in the Outer Continental Shelf (OCS)—Fixed and Floating Platforms and Structures and Documents Incorporated by Reference

Correction

In rule document 05-14038 beginning on page 41556 in the issue of Tuesday, July 19, 2005 make the following corrections:

§250.900 [Corrected]

1. On page 41575, in §250.900(b), in the table, in the first column, in the second entry, in the first line “modification” was misspelled.

2. On the same page, in the same section, in the same table, in the same column, in the same entry, in the second line “including” should read “includes”.

3. On the same page, in the same section, in the same table, in the same column, in the same entry, in the third line “approval” should read “approved”.

[FR Doc. C5-14038 Filed 4-3-06; 8:45 am]

BILLING CODE 1505-01-D